DEPARTMENT OF AGRICULTURE

Food and Nutrition Service

Agency Information Collection Activities: School Meals Operations Study: Evaluation of the School-Based Child Nutrition Programs

AGENCY: Food and Nutrition Service (FNS), United States Department of Agriculture (USDA).

ACTION: Notice.

SUMMARY: In accordance with the Paperwork Reduction Act of 1995, this notice invites the general public and other public agencies to comment on this proposed information collection. This collection is a revision of a currently approved collection for the School Meals Operations (SMO) Study (OMB control number 0584-0607) information collection with updated survey instruments for school year (SY) 2022-2023. This study will collect data from State agencies and public school food authorities (SFAs), including disaggregated administrative data, on the continued use and effectiveness of the nationwide Child Nutrition (CN) COVID-19 waivers, and continuation of SMO information collection with updated survey instruments.

DATES: Written comments must be received on or before April 3, 2023.

ADDRESSES: Comments may be sent to: Darcy Güngör at darcy.gungor@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Darcy Güngör at darcy.gungor@usda.gov, 703-305-4345.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: School Meals Operations Study: Evaluation of the School-based Child Nutrition Programs.

Form Number: N/A.

OMB Number: 0584-0607.

Expiration Date: 12/31/2024.

Type of Request: Revision of a currently approved collection.

Abstract: FNS administers the school-based Child Nutrition (CN) Programs (i.e., the school meal programs) in partnership with States and local SFAs. Section 28(a) of the Richard B. Russell National School Lunch Act authorizes the USDA Secretary to conduct annual national performance assessments of the school meal programs. FNS plans to conduct this annual assessment through the SMO Study in SY 2023-2024. This notice covers the fourth year of the SMO Study, which will collect data from State and local agencies on the CN COVID-19 waivers as well as data on state and local CN Program operations during SY 2022-2023. Data collection will occur in SY 2023-2024.

The fourth year of the SMO Study is a minor revision of a currently approved collection for the SMO Study. The SMO study is designed to collect timely data on the continued use and effectiveness of the CN COVID-19 waivers as well as policy, administrative, and operational issues in the school-based CN Programs, which contributes to budget preparation, development and implementation of program policy and regulations, and identification of areas for technical assistance and training. This study will help FNS obtain:

1. General descriptive data on the characteristics of CN Programs to inform the budget process and answer questions about topics of current policy interest;

2. Data on Program operations to identify potential topics for training and technical assistance for SFAs and State agencies (SAs) responsible for administering the CN Programs;

3. Administrative data to identify program trends and predictors;

4. Information on the use and effectiveness of the CN COVID-19 waivers.

The activities to be conducted subject to this notice include:

• Collecting disaggregated administrative data from 67 State Agency Directors that are currently only reported in aggregate on forms FNS-10, Report of School Program Operations, FNS-418, Report of the Summer Food Service Program for Children, and FNS-44, Report of the Child and Adult Care Food Program (which are approved under OMB# 0584-0594, Food Programs Reporting System (FPRS), expiration date 07/31/2023)

• Conducting a web survey of 54 State CN Directors

• Conducting a web survey of 1,266 SFA Directors

To reduce data collection burden on SFAs, the SMO Study will analyze existing administrative data collected from SAs which will limit the number and type of questions included in surveys to SAs and SFAs. To facilitate data collection, SAs will receive an agenda for initial telephone meetings and a template for the data request. The data request template will link each data element to the corresponding item number on forms FNS-10, FNS-418, and FNS-44. Examples of the types of data that the administrative request will respond to include number of schools and students participating in the meal programs and the number of meals served under the meal programs.

SMO will also conduct surveys of a census of SAs and a nationally representative sample of SFAs on key topics identified annually. Recruitment will be a three-step process. First, data collection will begin with an email to regional offices requesting their assistance by sending a letter of support to States. Next, the study team will send an advance letter to the States that describes the study and asks CN Directors to send a letter of support to SFAs. Third, the study team will send an invitation to States and SFAs to complete the web survey. To maximize the opportunity to reach all respondents, the study team will attempt to contact them by mail, email, and phone. Participants will be able to complete the survey on the web, in hard copy, or over the phone.

The goal of data collection for the SMO Study is to respond to annual research questions on the following topics: (1) school participation, (2) student participation, (3) meal counting, (4) financial management, and (5) program integrity. This revision covers data collection for one school year, with revisions of surveys and administrative data collection instruments from previous years.

Note: Personally identifiable information will not be used to retrieve survey records or data.

Affected Public: State, Local, and Tribal Governments: Respondent groups identified include: (1) SFA Directors for public schools, and (2) State Agency Directors from all 50 States, 3 territories, and the District of Columbia.

Estimated Number of Respondents: The total estimated number of respondents is 1,339. This includes (1) 67 State Agency Directors who are expected to participate in the administrative data collection, 54 of whom are also CN Directors who will be participating in the CN Director survey (3 of the 54 CN Directors are also expected to participate in the pretest), and (2) 1,266 SFA Directors. Six SFA Directors are expected to participate in the pretest of the SFA Director web survey; these six SFA Director pretest participants are unique respondents and will not be included in the sample for the SFA survey. Of the 1,266 public SFA Directors included in the sample for the SFA Director web survey, 1,012 are expected to respond and FNS expects 254 will not respond to the study activities (non-respondents).

Estimated Number of Responses per Respondent: State Agency Director respondents will be asked to complete an initial telephone meeting and respond to the FNS-10, FNS-418 and FNS-44 administrative data requests one time. SFA Director and CN Director respondents will be asked to complete their respective web surveys one time. In the event of non-response, CN Directors may receive reminder emails and phone calls until the target of 67 respondents is reached for the administrative data collection. Child Nutrition Directors may receive reminder emails, phone calls, and a last chance postcard until the target of 54 respondents is reached for the web survey. Similarly, SFA Directors who do not respond to the web survey may receive reminders via email, phone, or post card until the target number of 1,012 respondents is reached.

FNS estimates that respondents will average 7.33 responses (7,948 responses/1,085 respondents) across the entire collection, with non-respondents averaging 15.32 responses (3,892 responses/254 non-respondents). Across all participants in the collection (respondents and non-respondents) the average number of responses is 8.84 (11,840 responses/1,339 total respondents).

Estimated Total Annual Responses: 11,840.

Estimated Time per Response: The estimated time per response ranges from 3 minutes (0.05 hours) to 6 hours depending on the instrument, as shown in the table below, with an average estimated time for all participants of 13.20 minutes (0.22 hours) per response.

Estimated Total Annual Burden on Respondents: 119,985.60 minutes (1,999.76 hours). See the table below for estimated total annual burden for each type of respondent.

BILLING CODE 3410-30-P

Tameka Owens,
Assistant Administrator, Food and Nutrition Service.

[FR Doc. 2023-02055 Filed 1-31-23; 8:45 am]

BILLING CODE 3410-30-C